DEPARTMENT OF ENERGY

Energy Information Administration

Policy Statement; Solicitation of Comments on the Disclosure Limitation Policy for Statistical Information Based on Alternative Fueled Vehicles and Alternative Transportation Fuels Survey Data

AGENCY: Energy Information Administration (EIA), Department of Energy (DOE).

ACTION: Policy statement; solicitation of comments on the disclosure limitation policy for statistical information based on alternative fueled vehicles and alternative transportation fuels survey data.

SUMMARY: The EIA is requesting comments on the disclosure limitation policy for statistical information based on alternative fueled vehicles and alternative transportation fuels survey data collected on Form EIA-886, “Annual Survey of Alternative Fueled Vehicle Suppliers and Users.” EIA policy will be to only apply disclosure limitation methods to statistics based on projected data reported on Form EIA-886. For statistics based on historical data reported on Form EIA-886, EIA will not apply disclosure limitation methods. EIA will continue to protect information collected under a pledge of confidentiality by not publicly releasing respondent-level survey data directly linked to names or other identifiers. This proposed policy is based on EIA's mandate for carrying out a central, comprehensive, and unified energy data and information program responsive to users' needs for credible, reliable, and timely energy information that will improve and broaden understanding of energy in the United States.

DATES: Comments must be filed by March 18, 2004. If you anticipate difficulty in submitting comments within that period, contact the person listed below as soon as possible.

ADDRESSES: Comments on this policy should be directed to Fred Mayes, Chief of EIA's Renewables Information Team. To ensure receipt of the comments by the due date, submission by fax (202-287-1964) or e-mail (fred.mayes@eia.doe.gov) is recommended. The mailing address is Renewables Information Team (EI-52), Forrestal Building, U.S. Department of Energy, 1000 Independence Ave., SW., Washington, DC 20585-0650. Alternatively, Mr. Mayes may be contacted by telephone at (202) 287-1750.

FOR FURTHER INFORMATION CONTACT: Requests for additional information should be directed to Mr. Mayes at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA provides the public and other Federal agencies with opportunities to comment on collections of energy information conducted by EIA. As appropriate, EIA also requests comments on important issues relevant to the dissemination of energy information. Comments received help the EIA when preparing information collections and information products necessary to support EIA's mission.

Form EIA-886, “Annual Survey of Alternative Fueled Vehicle Suppliers and Users,” is an annual survey collecting information on the number of alternative fuel vehicles (AFVs) made available, the distribution of AFVs in use, and alternative transportation fuels (ATFs) consumed. Respondents are AFV manufacturers, importers, and conversion companies, as well as consumers of ATFs.

Form EIA-886 is collected under a pledge of confidentiality. EIA does not publicly release the names or other identifiers of EIA-886 survey respondents linked to their submitted data. For statistics based on projected data (e.g., data on alternative fueled vehicles that will be supplied in the upcoming calendar year) reported on Form EIA-886, EIA applies disclosure limitation. However, for all statistics based on historical Form EIA-886 data (e.g., data on alternative fueled vehicles supplied during the report year), EIA does not apply disclosure limitation.

When used, disclosure limitation methods are designed to minimize the possibility that individually-identifiable information reported by a survey respondent may be inferred from published statistics. By not using disclosure limitation methods, a statistic based on historical data reported on Form EIA-886 by fewer than three respondents or dominated by historical data from one or two large respondents may be used by a knowledgeable person to estimate data reported by a specific respondent.

Data collected on Form EIA-886 are used to meet EIA's mandates and energy data users' needs for credible, reliable, and timely energy information on the types of ATVs supplied, projections of the types ATVs that will be supplied in the upcoming year, the location of ATVs in operation, and the types and amounts of ATFs consumed. Adequate evaluation of ATV/ATF issues requires detailed, comprehensive data. Data collected on Form EIA-886 are used to create statistics disseminated by EIA in various information products available on EIA's Web site at http://www.eia.doe.gov/fuelalternate.html.

EIA's ATV/ATF statistics provide Congress, other government agencies, businesses, trade associations, and private research and consulting organizations with information for analysis, projections, and monitoring purposes. To be most effective, EIA's ATV/ATF statistical information must be available by various breakdowns including vehicle, supplier, and user categories.

Given the relatively small number of Form EIA-886 respondents, certain statistics based primarily on data reported by a few respondents with large operations, and the need for detailed ATV/ATF statistics, the use of disclosure limitation methods would result in a large amount of detailed, historical statistics being suppressed from public dissemination. The suppressed historical statistics would then be unavailable to public and private analysts interested in ATVs and ATFs. Form EIA-886 respondents have indicated to EIA staff that projected data are sensitive and estimation of respondent-level projections has more potential to cause competitive harm than for historical data.

II. Current Actions

The EIA is requesting comments on the disclosure limitation policy for statistical information based on alternative fueled vehicles and alternative transportation fuels survey data collected on Form EIA-886, “Annual Survey of Alternative Fueled Vehicle Suppliers and Users.” EIA proposes to only apply disclosure limitation methods to statistics based on projected data reported on Form EIA-886. For statistics based on historical data reported on Form EIA-886, EIA will not apply disclosure limitation methods. EIA will continue to protect information collected under a pledge of confidentiality by not publicly releasing respondent-level survey data directly linked to names or other identifiers. This policy will result in EIA providing the maximum amount of ATV/ATF information to the public, and will facilitate public understanding of the ATF/ATV situation in the U.S. However, it also means that a knowledgeable person may be able to estimate the value of selected historical data reported by specific respondents.

III. Request for Comments

The public should comment on the actions discussed in item II. The questions below are the issues on which EIA is seeking public comments.

A. Does EIA's proposed policy to only use disclosure limitation methods for statistics based on projected data reported on Form EIA-886 maximize the utility of the ATV/ATF statistics to data users?

B. Is the possibility that a knowledgeable user might be able to estimate a respondent's contribution to a historical statistic an acceptable risk to Form EIA-886 respondents?

Comments submitted in response to this notice will be considered by EIA. The comments will also become a matter of public record.

After consideration of the comments, EIA will issue its policy regarding the use of disclosure limitation methods for alternative fueled vehicles and alternative transportation fuels statistical information based on Form EIA-886 survey data. The policy will be announced in a Federal Register notice issued by EIA.

Statutory Authority: Section 52 of the Federal Energy Administration Act (Pub. L. 93-275, 15 U.S.C. 790a).

Issued in Washington, DC, February 10, 2004.
Jay H. Casselberry,
Agency Clearance Officer, Statistics and Methods Group, Energy Information Administration.

[FR Doc. 04-3341 Filed 2-13-04; 8:45 am]

BILLING CODE 6450-01-P